DEPARTMENT OF COMMERCE

National Oceanic and Atmospheric Administration

50 CFR Part 635

RIN 0648-BC09

Atlantic Highly Migratory Species (HMS); 2006 Consolidated HMS Fishery Management Plan (FMP); Amendment 7

AGENCY: National Marine Fisheries Service (NMFS), National Oceanic and Atmospheric Administration (NOAA), Commerce.

ACTION: Notice of installation schedule for electronic monitoring equipment.

SUMMARY: On December 2, 2014, NMFS published the final rule for Amendment 7 to the 2006 Consolidated HMS FMP (Amendment 7) to ensure sustainable management of bluefin tuna consistent with the 2006 HMS FMP and address ongoing challenges in the Atlantic bluefin tuna fisheries. The regulations implemented by the final rule require that an owner or operator of a commercial vessel permitted or required to be permitted in the Atlantic Tunas Longline category and that has pelagic longline gear on board that vessel, have installed, operate, and maintain an electronic monitoring (EM) system on the vessel. To enable vessels to comply with the EM requirements, NMFS is scheduling dates and locations for installation of, and training on the operation of, EM equipment on up to 135 vessels that were deemed eligible for initial bluefin tuna quota shares in Amendment 7. Although most Amendment 7 measures are effective as of January 1, 2015, the final rule specifies that EM installation must be completed by June 1, 2015, to fish with pelagic longline gear after that date. Therefore, in this notice NMFS is scheduling EM installations between January 1 and June 1, 2015. Pursuant to Amendment 7, NMFS is also providing information about the EM installation process.

DATES: See SUPPLEMENTARY INFORMATION for installation dates, times, and locations.

ADDRESSES: Installation of EM equipment is scheduled at the following ports: Cape Canaveral, FL; Panama City, FL; Dulac, LA; Wanchese, NC, Beaufort, NC, and Barnegat Light, NJ. See SUPPLEMENTARY INFORMATION for specific dates, times, and locations.

FOR FURTHER INFORMATION CONTACT: Thomas Warren or Brad McHale at 978-281-9260; or Craig Cockrell at 301-427-8503.

SUPPLEMENTARY INFORMATION: Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Amendment 7 to the 2006 Consolidated HMS FMP may be found online at: http://www.nmfs.noaa.gov/sfa/hms/documents/fmp/am7/index.html.

On December 2, 2014, NMFS published the final rule for Amendment 7 to the 2006 Consolidated HMS FMP to, among other things, take actions related to the operation and management of the Atlantic bluefin tuna fishery, including measures applicable to the pelagic longline fishery, including Individual Bluefin Quotas (IBQs) and expanded monitoring requirements, including electronic monitoring via cameras (79 FR 71510). The regulations implemented by the final rule require that an owner or operator of a commercial vessel permitted or required to be permitted in the Atlantic Tunas Longline category and that has pelagic longline gear on board that vessel, have installed, operate, and maintain an EM system on the vessel. To enable eligible vessels to comply with the EM requirements, NMFS is scheduling dates and locations for installation of and training on the operation of EM equipment. Although most Amendment 7 measures are effective as of January 1, 2015, EM installation must be completed by June 1, 2015, to fish with pelagic longline gear after that date. NMFS has identified funds to pay for the required equipment and its initial installation prior to June 1, 2015, for the currently eligible vessels (135 vessels with Atlantic Tunas Longline permits deemed eligible to receive Individual Bluefin Quota (IBQ) shares pursuant to Amendment 7). This will ease the regulated community's burden associated with the new monitoring requirements. NMFS sent certified letters on December 4, 2014, to the permit holders to inform them of the eligibility status of their Atlantic Tunas Longline permit. Funding for future equipment and installations, and installations of EM on vessels other than the 135 initially identified is uncertain, as is installation after June 1, 2015, even for eligible vessels. The following descriptions and instructions are consistent with the Amendment 7 final rule:

Vessel owners and/or operators should, in the near future, call Saltwater, Inc., the NMFS-approved contractor, at 800-770-3241, to schedule EM installation and training for eligible vessels at one of the ports specified in Table 1, and to discuss logistics (time, precise location, etc.) with the contractor. As specified in the final rule, prior to the scheduled date of installation, vessel owners/operators must purchase a fitting for the pressure side of the line of the drum hydraulic system. The fitting may be either “T” or inline, with a female ¼ threaded National Pipe Thread (NPT) port, to enable connection to the pressure transducer (a component of the EM system).

Before the scheduled date of installation, the NMFS-approved contractor may contact vessel operators in person or by phone to ask questions to help them determine power supply, vessel configuration, and other considerations necessary to facilitate installation of the EM system and to ensure the system's compatibility with the vessel. The vessel owner and/or operator should be present on the day of installation to facilitate equipment installation and provide access to the vessel and information to Saltwater, Inc., about the power supply and other vessel infrastructure and other information as needed. The dates and locations of the EM installations are listed below in Table 1. These dates and locations were chosen based on several factors to reduce the potential for the installation schedule to interfere with fishing trips and to minimize the distances vessel may have to travel. In order to provide as much flexibility as possible for the locations of a limited number of installations, NMFS will announce any additional locations or changes in locations, if warranted, in a future notice (“To Be Determined”).

Table 1—Dates and Locations of Electronic Monitoring Installations
Date range (2015) | Name of port
January 16 through 25 | Cape Canaveral, FL. Panama City, FL.
February 14 through 23 | Cape Canaveral, FL. Dulac, LA.
March 16 through 25 | Wanchese, NC. Beaufort, NC.
April 14 through 23 | Wanchese, NC. Dulac, LA.
May 11 through 17, and 19 through 25 | To Be Determined. Barnegat Light, NJ.

Other Installations

If a vessel owner and/or operator of an eligible vessel is not able to coordinate installation with Saltwater, Inc., on one of the dates and locations listed in Table 1, the vessel operator should contact Saltwater, Inc., at 800-770-3241 to determine whether another mutually-agreed upon location and date before June 1, 2015, is feasible for installation and training. NMFS cannot guarantee that an alternate location or date will be provided given the limited funding and time available to complete installation of the EM equipment and training. Therefore, vessel owners and/or operators should make a concerted effort to make plans to adhere to the EM installation schedule in Table 1.

Authority: 16 U.S.C. 971 et seq. and 1801 et seq.

Dated: December 23, 2014.
Alan D. Risenhoover,
Director, Office of Sustainable Fisheries, National Marine Fisheries Service.

[FR Doc. 2014-30521 Filed 12-24-14; 11:15 am]

BILLING CODE 3510-22-P